DEPARTMENT OF THE TREASURY

United States Mint

Pricing for the 2017 Boys Town Centennial Commemorative Coin Program

AGENCY: United States Mint, Department of the Treasury.

ACTION: Notice.

SUMMARY: The United States Mint is announcing pricing for the 2017 Boys Town Centennial Commemorative Coin Program as follows:

Coin | Introductory price | Regular price
Boys Town Centennial Proof Silver Dollar | $47.95 | $52.95
Boys Town Centennial Uncirculated Silver Dollar | 46.95 | 51.95
Boys Town Centennial Proof Half Dollar | 21.95 | 26.95
Boys Town Centennial Uncirculated Half Dollar | 20.95 | 25.95

Products containing gold coins will be priced according to the 2016 Pricing of Numismatic and Commemorative Gold and Platinum Products Grid posted at www.usmint.gov.

FOR FURTHER INFORMATION CONTACT: Ann Bailey, Program Manager for Numismatic and Bullion; United States Mint; 801 9th Street NW., Washington, DC 20220; or call 202-354-7500.

Authority: Public Law 114-30.

Dated: February 2, 2017.
David Motl,
Acting Principal Deputy Director, United States Mint.

[FR Doc. 2017-02498 Filed 2-6-17; 8:45 am]

BILLING CODE P